DEPARTMENT OF COMMERCE

International Trade Administration

[A-428-820]

Certain Small Diameter Carbon and Alloy Seamless Standard, Line, and Pressure Pipe From Germany: Rescission of Antidumping Duty Administrative Review; 2012-2013

AGENCY: Enforcement and Compliance, formerly Import Administration, International Trade Administration, Department of Commerce.

DATES: January 6, 2014.

FOR FURTHER INFORMATION CONTACT: Patrick Edwards or Angelica Mendoza, AD/CVD Operations, Office VI, Enforcement and Compliance, International Trade Administration, U.S. Department of Commerce, 14th Street and Constitution Avenue NW., Washington, DC 20230; telephone: (202) 482-8029 or (202) 482-3019, respectively.

SUPPLEMENTARY INFORMATION:

Background

On August 1, 2013, the Department of Commerce (the Department) published in the Federal Register a notice of “Opportunity to Request Administrative Review” of the antidumping duty order on certain small diameter carbon and alloy seamless standard, line, and pressure pipe (seamless pressure pipe) from Germany for the period of review (POR) of August 1, 2012, through July 31, 2013.¹ The Department received a timely request from United States Steel Corporation (petitioner), filed in accordance with 19 CFR 351.213(b), for an administrative review of sales, shipments, or entries by certain companies subject to the antidumping duty order on seamless pressure pipe from Germany. On October 2, 2013, the Department published a notice of initiation of an administrative review of the antidumping duty order on seamless pressure pipe from Germany with respect to four companies: (1) Benteler Stahl/Rohr GmbH (also known as Benteler Steel/Tube GmbH); (2) ESW Roehrenwerke GmbH; (3) Vallourec & Mannesmann Tubes—V & M Deutschland GmbH; and (4) Voestalpine AG and all affiliates (including, but not limited to, Voestalpine Tubulars GmbH & Co. KG and Voestalpine Rotec GmbH & Co. KG).²

¹ See Antidumping or Countervailing Duty Order, Finding, or Suspended Investigation; Opportunity To Request Administrative Review, 78 FR 46573 (August 1, 2013).

² See Initiation of Antidumping and Countervailing Duty Administrative Reviews and Request for Revocation in Part, 78 FR 60834 (October 2, 2013); see also, Initiation of Antidumping and Countervailing Duty Administrative Reviews and Request for Revocation in Part, 78 FR 67104 (November 8, 2013).

The Department stated in its initiation of this review that it intended to rely on U.S. Customs and Border Protection (CBP) data to select respondents.³ We released the results of our CBP data query to the petitioners and one other interested party, Voestalpine AG, and invited them to comment on the CBP data.⁴ We received no comments on the CBP data. We did, however, receive a certification of no shipments from Voestalpine AG.⁵

³ Id.

⁴ See Letter to All Interested Parties, from Angelica Mendoza, Program Manager, regarding “Request for Comments on CBP Data,” dated November 7, 2013.

⁵ See Letter to the Secretary of Commerce, from Voestalpine AG, titled “Voestalpine No Shipment Letter,” dated November 17, 2013.

Rescission of Review

19 CFR 351.213(d)(1) stipulates that the Secretary will rescind an administrative review under this section, in whole or in part, if a party that requested a review withdraws the request within 90 days of the date of publication of notice of initiation of the requested review. As the only party that requested a review (the petitioners) withdrew the request within 90 days of the date of publication of the notice of initiation of the requested review, we are rescinding this review of the antidumping duty order on seamless pressure pipe from Germany pursuant to 19 CFR 351.213(d)(1).⁶

⁶ See Letter to the Secretary of Commerce, from Petitioner, titled “Withdrawal of Request for Administrative Review,” dated December 5, 2013.

Assessment of Antidumping Duties

We intend to issue assessment instructions to CBP 15 days after the date of publication of this notice of rescission of administrative review. Antidumping duties shall be assessed at rates equal to the cash deposit of estimated antidumping duties required at the time of entry, or withdrawal from warehouse, for consumption, in accordance with 19 CFR 351.212(c)(1)(i).

Notifications

This notice serves as a final reminder to importers of their responsibility under 19 CFR 351.402(f)(2) to file a certificate regarding the reimbursement of antidumping duties prior to liquidation of the relevant entries during this review period. Failure to comply with this requirement could result in the presumption that reimbursement of antidumping duties occurred and the subsequent assessment of doubled antidumping duties.

This notice also serves as a reminder to parties subject to administrative protective order (APO) of their responsibility concerning the disposition of proprietary information disclosed under APO in accordance with 19 CFR 351.305(a)(3). Timely written notification of the return or destruction of APO materials or conversion to judicial protective order is hereby requested. Failure to comply with the regulations and terms of an APO is a sanctionable violation.

This notice is published in accordance with section 751 of the Tariff Act of 1930, as amended, and 19 CFR 351.213(d)(4).

Dated: December 23, 2013.
Christian Marsh,
Deputy Assistant Secretary for Antidumping and Countervailing Duty Operations.

[FR Doc. 2013-31489 Filed 1-3-14; 8:45 am]

BILLING CODE 3510-DS-P